DEPARTMENT OF STATE

22 CFR Parts 120, 121, 122, 123, 124, 125, 126, 127, 128, 129, and 130

[Public Notice [7927]]

Export Control Reform Transition Plan

Correction

In proposed rule document 2012-15070 appearing on pages 37346-37349 in the issue of Thursday, June 21, 2012 make the following correction:

On page 37346, in the third column, in the document's heading, the CFR parts affected should read “22 CFR Parts 120, 121, 122, 123, 124, 125, 126, 127, 128, 129, and 130”.

[FR Doc. C1-2012-15070 Filed 6-27-12; 8:45 am]

BILLING CODE 1505-01-D